DEPARTMENT OF ENERGY

Advanced Scientific Computing Advisory Committee

AGENCY: Department of Energy, Office of Science.

ACTION: Notice of open meeting.

SUMMARY: This notice announces a meeting of the Advanced Scientific Computing Advisory Committee (ASCAC). Federal Advisory Committee Act (Pub. L. 92-463, 86 Stat. 770) requires that public notice of these meetings be announced in the Federal Register.

DATES: Tuesday, August 11, 2009, 9 a.m. to 5 p.m.; Wednesday, August 12, 2009, 9 a.m. to 12 p.m.

ADDRESSES: American Geophysical Union, (AGU), 2000 Florida Avenue, NW., Washington, DC 20009-1277.

FOR FURTHER INFORMATION CONTACT: Melea Baker, Office of Advanced Scientific Computing Research, SC-21/Germantown Building, U.S. Department of Energy, 1000 Independence Avenue, SW., Washington, DC 20585-1290; Telephone (301)-903-7486, (E-mail: Melea.Baker@science.doe.gov).

SUPPLEMENTARY INFORMATION: Purpose of the Meeting: The purpose of this meeting is to provide advice and guidance with respect to the advanced scientific computing research program.

Tentative Agenda: Agenda will include discussions of the following:

Tuesday, August 11, 2009

View from Washington,

Office of Science Update,

ASCR Update,

Computing at the National Science Foundation,

Computational Research Needs in Alternative and Renewable Energy,

SciDAC Update,

Potential Impact of High-end Capability Computing on Four Illustrative Fields of Science and Engineering,

ASCR Recovery Act projects,

Public Comment.

Wednesday, August 12, 2009

ASCAC Committee of Visitors Update,

Challenges in Climate Change Science and the Role of Computing at the Extreme Scale,

Petascale Science Results,

Public Comment.

Public Participation: The meeting is open to the public. If you would like to file a written statement with the Committee, you may do so either before or after the meeting. If you would like to make oral statements regarding any of the items on the agenda, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room, 1E-190, Forrestal Building, 1000 Independence Avenue, SW., Washington, DC 20585, between 9 a.m. and 4 p.m., Monday through Friday, except holidays.

Issued in Washington, DC, on July 1, 2009.
Rachel Samuel,
Deputy Committee Management Officer.

[FR Doc. E9-16208 Filed 7-9-09; 8:45 am]

BILLING CODE 6450-01-P